DEPARTMENT OF TRANSPORTATION

Office of the Secretary

Aviation Proceedings, Agreements Filed the Week Ending March 9, 2007

The following Agreements were filed with the Department of Transportation under Sections 412 and 414 of the Federal Aviation Act, as amended (49 U.S.C. 1383 and 1384) and procedures governing proceedings to enforce these provisions. Answers may be filed within 21 days after the filing of the application.

Docket Number: OST-2007-27527.

Date Filed: March 6, 2007.

Parties: Members of the International Air Transport Association.

Subject:

PTC COMP Mail Vote 528, Resolution 011a Mileage Manual Non-TC Member/Non-Iata Carrier Sectors (Memo 1375).

Intended effective date: 15 March 2007.

Docket Number: OST-2007-27535.

Date Filed: March 7, 2007.

Parties: Members of the International Air Transport Association.

Subject:

Mail Vote 527—Resolution 010k, TC3 Japan, Korea-South East Asia, Special Passenger Amending Resolution between Korea (Rep. of) and China excluding Hong Kong SAR and Macao SAR, Mongolia, Philippines (Memo 1064).

Intended effective date: 15 March 2007.

Docket Number: OST-2007-27564.

Date Filed: March 9, 2007.

Parties: Members of the International Air Transport Association.

Subject:

TC2 Europe-Africa, Expedited Resolution 002dg (Memo 0245).

Intended effective date: 1 April 2007.

Docket Number: OST-2007-27568.

Date Filed: March 9, 2007.

Parties: Members of the International Air Transport Association.

Subject:

PTC COMP Mail Vote 529, Cancellation of Composite Resolutions 001m, 001o, 001w, 002dd, 005aa, 035, 048, 125, 210, 211, 785a (Memo 1377).

Intended effective date: 1 April 2007.

Renee V. Wright,
Program Manager, Docket Operations, Federal Register Liaison.

[FR Doc. E7-5025 Filed 3-19-07; 8:45 am]

BILLING CODE 4910-9X-P